DEPARTMENT OF THE INTERIOR

Fish and Wildlife Service

Issuance of Permit for Marine Mammals

On July 13, 2000, a notice was published in the Federal Register, Vol. 65, No. 135, Page 43380, that an application had been filed with the Fish and Wildlife Service by James L. Scull, Jr., for a permit (PRT-029977) to import one polar bear (Ursus maritimus) trophy taken from the Lancaster Sound population, Canada for personal use.

Notice is hereby given that on September 12, 2000, as authorized by the provisions of the Marine Mammal Protection Act of 1972, as amended (16 U.S.C. 1361 et seq.) the Fish and Wildlife Service authorized the requested permit subject to certain conditions set forth therein.

Dated: September 22, 2000.
Charlie Chandler,
Chief, Branch of Permits, Division of Management Authority.

[FR Doc. 00-24914 Filed 9-27-00; 8:45 am]

BILLING CODE 4310-55-U